DEPARTMENT OF HEALTH AND HUMAN SERVICES

National Institutes of Health

Notice of Establishment

Pursuant to the Federal Advisory Committee Act, as amended (5 U.S.C. Appendix 2), the Director, National Institutes of Health (NIH), announces the establishment of the National Cancer Institute Clinical Trials Advisory Committee (Committee).

This Committee shall advise the Director, NCI, NCI Deputy Directors, and the Director of each NCI Division on the NCI-support national clinical trials enterprise to build a strong scientific infrastructure by bringing together a broadly developed and engaged coalition of stakeholders involved in the clinical trials process.

The Committee will consist of 25 members, including the Chair, appointed by the Director, NCI. Members shall be authorities knowledgeable in the fields of community, surgical, medical, and radiation oncology, patient advocacy, extramural clinical investigation, regulatory agencies, pharmaceutical industry, public health, clinical trials design, management and evaluation, drug development and developmental therapeutics, cancer prevention and control research in the fields of interest to NCI.

Duration of this committee is continuing unless formally determined by the Director, NCI that termination would be in the best public interest.

Dated: March 21, 2006.
Elias A. Zerhouni,
Director, National Institutes of Health.

[FR Doc. 06-3096 Filed 3-29-06; 8:45 am]

BILLING CODE 4140-01-M